ENVIRONMENTAL PROTECTION AGENCY

40 CFR Part 52

[EPA-R08-OAR-2020-0002; FRL-10011-12-Region 8]

Determination of Attainment by the Attainment Date for the Salt Lake City, Utah and Provo, Utah 2006 24-Hour PM2.5 Nonattainment Areas; Correction

AGENCY: Environmental Protection Agency (EPA).

ACTION: Proposed rule; correction.

SUMMARY: The Environmental Protection Agency (EPA) published a proposed rule in the Federal Register on June 8 2020, determining that the Salt Lake City, Utah and Provo, Utah Serious PM2.5 nonattainment areas had attained the 2006 24-hour National Ambient Air Quality Standard (NAAQS) for PM2.5 and this document corrects information displayed in a Table within that proposed rule.

DATES: Written comments must be received on or before August 6, 2020.

ADDRESSES: Submit your comments, identified by Docket ID No. EPA-R08-OAR-2020-0002, to the Federal Rulemaking Portal: https://www.regulations.gov. Follow the online instructions for submitting comments. Once submitted, comments cannot be edited or removed from www.regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov. To reduce the risk of COVID-19 transmission, for this action we do not plan to offer hard copy review of the docket. Please email or call the person listed in the FOR FURTHER INFORMATION CONTACT section if you need to make alternative arrangements for access to the docket.

FOR FURTHER INFORMATION CONTACT: Crystal Ostigaard, Air and Radiation Division, EPA, Region 8, Mailcode 8ARD-IO, 1595 Wynkoop Street, Denver, Colorado 80202-1129, (303) 312-6602, ostigaard.crystal@epa.gov.

SUPPLEMENTARY INFORMATION: The EPA issued a proposed rule in the Federal Register on June 8, 2020 (85 FR 35033). There was an error in “Table 1” contained within section “II. EPA Evaluation,” subsection “C. Evaluation of Current Attainment” of the June 8, 2020 proposed rule. The table erroneously listed the 2017-2019 98th percentiles and design value for the Spanish Fork monitor twice; one correctly within the row for the Spanish Fork monitor and the second incorrectly within the row for the Lindon monitor. Table 1 should have listed the 98th percentiles and design value for the Lindon monitor as: 2017 98th percentile—28.9 µg/m³; 2018 98th percentile—28.4 µg/m³; 2019 98th percentile—21.2 µg/m³; and 2017-2019 design value—26 µg/m³. This corrective action does not affect our determination that the areas are meeting the NAAQS. This correction document does not otherwise change the remaining portions of the June 8, 2020 notice of proposed rulemaking.

Correction

In FR Document 2020-12074 appearing on pages 35033-35035 in the Federal Register of Monday, June 8, 2020, the following correction is made:

On page 35035, in Table 1, under the heading entitled “NAA” in the entry entitled “Provo” for “Lindon” monitoring site, remove the text “27.6” associated with column “98th percentile values” and “2017,” and replace the text with “28.9”; remove the text “49.6” associated with column “98th percentile values” and “2018,” and replace the text with “28.4”; remove the text “17.5” associated with column “98th percentile values” and “2019,” and replace the text with “21.2”; remove the text “32” associated with column “2017-2019 design value,” and replace the text with “26.” The complete corrected table is below:

Table 1—Salt Lake City and Provo NAAs 2017-2019 24-Hour PM2.5 Air Quality Data
[µg/m³]
NAA | Monitor site | Monitor ID | 98th percentile values: 2017 | 98th percentile values: 2018 | 98th percentile values: 2019 | 2017-2019 design value
Salt Lake City | Bountiful | 49-011-0004 | 35.2 | 25.7 | 19.3 | 27
| Rose Park | 49-035-3010 | 32.4 | 29.2 | 27.9 | 30
| Hawthorn | 49-035-3006 | 35.7 | 26.2 | 27.3 | 30
| Herrimam #3 | 49-035-3013 | 28.2 | 29.0 | 18.8 | 25
| Erda | 49-045-0004 | 20.9 | 30.6 | 22.9 | 25
Provo | Lindon | 49-049-4001 | 28.9 | 28.4 | 21.2 | 26
| Spanish Fork | 49-049-5010 | 27.6 | 49.6 | 17.5 | 32

List of Subjects in 40 CFR Part 52

Environmental protection, Air pollution control, Carbon monoxide, Greenhouse gases, Incorporation by reference, Intergovernmental relations, Lead, Nitrogen dioxide, Ozone, Particulate matter, Reporting and recordkeeping requirements, Sulfur oxides, Volatile organic compounds.

Authority: 42 U.S.C. 7401 et seq.

Dated: June 25, 2020.
Gregory Sopkin,
Regional Administrator, EPA Region 8.

[FR Doc. 2020-14462 Filed 7-6-20; 8:45 am]

BILLING CODE 6560-50-P